DEPARTMENT OF COMMERCE

Office of the Secretary

Submission for OMB Review; Comment Request; Generic Clearance for the Collection of Qualitative Feedback on Agency Service Delivery

The Department of Commerce will submit a request for renewal of an existing collection of information entitled, “Generic Clearance for the Collection of Qualitative Feedback on Agency Service Delivery,” to the Office of Management and Budget (OMB) for clearance under the provisions of the Paperwork Reduction Act (44 U.S.C. Chapter 35).

Agency: Office of the Secretary, Office of the Chief Information Officer.

Title: Generic Clearance for the Collection of Qualitative Feedback on Agency Service Delivery.

OMB Control Number: 0690-0030.

Form Number(s): None.

Type of Request: Regular (extension of a currently approved information collection).

Number of Respondents: 244,710.

Average Hours per Response: 5 to 30 minutes for surveys; 1 to 2 hours for focus groups; 30 minutes to 1 hour for interviews (Other response times will depend on the type of information collected).

Burden Hours: 75,711 (Correction to the 60-day Federal Register Notice, which stated 631,334. Burden Hours).

Needs and Uses: This request is for an extension of a currently approved information collection of a “Generic Fast-track” process offered to all government agencies by OMB in 2010. Fast-track means that each request receives approval five days after submission, if no issues are brought to DOC's attention by OMB within five days.

The information collection activity for this fast-track process will garner qualitative customer and stakeholder feedback in an efficient, timely manner, in accordance with the Department of Commerce's commitment to improving service delivery. By qualitative feedback we mean information that provides useful insights on perceptions and opinions, but are not statistical surveys that yield quantitative results that can be generalized to the population of study. This feedback will provide insights into customer or stakeholder perceptions, experiences and expectations, provide an early warning of issues with service, or focus attention on areas where communication, training or changes in operations might improve delivery of products or services. These collections will allow for ongoing, collaborative and actionable communications between the Department and its customers and stakeholders. It will also allow feedback to contribute directly to the improvement of program management.

The DOC received no comments in response to the 60-day notice published in the Federal Register on March 23, 2017 (82 FR 14872).

Affected Public: Individuals or households; Business or other for-profit organizations; Not-for-profit institutions; State, local or Tribal Government; Federal Government, etc.

Frequency: One-time; Annually.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental PRA Lead, Office of the Chief Information Officer.

[FR Doc. 2017-10971 Filed 5-26-17; 8:45 am]

BILLING CODE 3510-17-P